MERIT SYSTEMS PROTECTION BOARD

Membership of the Merit Systems Protection Board's Senior Executive Service Performance Review Board

AGENCY: Merit Systems Protection Board.

ACTION: Notice.

SUMMARY: Notice is hereby given of the members of the Performance Review Board.

DATES: July 20, 2001.

FOR FURTHER INFORMATION CONTACT: Linda Nicholson, Personnel Officer, Merit Systems Protection Board, 1615 M Street, NW., Washington, DC 20419.

SUPPLEMENTARY INFORMATION: The Merit Systems Protection Board is publishing the names of the new and current members of the Performance Review Board (PRB) as required by 5 U.S.C. 4314(c)(4). Clyde B. Blandford, Jr. has been appointed as a new member. Lonnie L. Crawford will continue to serve as Chairman. John Palguta, Robert Lawshe, and John Seal will continue to serve as members of the PRB.

Dated: July 17, 2001.
Robert E. Taylor,
Clerk of the Board.

[FR Doc. 01-18210 Filed 7-19-01; 8:45 am]

BILLING CODE 7400-01-M